DEPARTMENT OF HEALTH AND HUMAN SERVICES

Public Meeting of the President's Advisory Council on Faith-Based and Neighborhood Partnerships

ACTION: Notice.

SUMMARY: A notice was published in the Federal Register on Tuesday, Feb. 2, 2010, to announce a meeting of the President's Advisory Council on Faith-Based and Neighborhood Partnerships that was scheduled to be held on Tuesday, Feb. 9th, 2010. This meeting has been cancelled in its entirety. We will publish a new notice when the meeting has been rescheduled.

FOR FURTHER INFORMATION CONTACT: Mara Vanderslice, White House Office of Faith-Based and Neighborhood Partnerships at mvanderslice@who.eop.gov.

Dated: February 2, 2010.
Jamison Citron,
Special Assistant, Office of Faith-Based and Neighborhood Partnerships.

[FR Doc. 2010-2577 Filed 2-4-10; 8:45 am]

BILLING CODE 4154-07-P